DEPARTMENT OF TRANSPORTATION

National Highway Traffic Safety Administration

Privacy Act of 1974; System of Records Notice

AGENCY: National Highway Traffic Safety Administration (NHTSA), Department of Transportation (DOT).

ACTION: Notice to alter a Privacy Act system of records.

SUMMARY: NHTSA is republishing the Privacy Act system of records notice (SORN) for the Consumer Assistance to Recycle and Save program (CARS program) database system replacing the previously published SORN of July 27, 2009 in order to: (1) Expand the routine uses of records maintained in the system to include sharing complaint records with State Attorneys General and the National Association of Attorneys General (NAAG), for purposes of investigating and prosecuting criminal violations, including fraud associated with the CARS program, and (2) update the system location, storage and retrievability sections of the SORN to reflect the use of word-searchable electronic files (i.e., Excel spreadsheets) to store complaint information, including that to be shared with the State Attorneys General and NAAG. These changes are more thoroughly detailed below and in the accompanying updated Privacy Impact Assessment (PIA) that may be found on the DOT Privacy Web site at http://www.dot.gov/privacy.

DATES: Effective September 10, 2009. The CARS Program is a temporary program covering eligible automobile purchases/leases occurring between July 1, 2009 and November 1, 2009. The Consumer Assistance to Recycle and Save Act of 2009 (the CARS Act), which authorized the CARS Program, requires the Secretary of Transportation, acting through NHTSA, to take steps to identify, prevent and penalize fraud associated with the Program. Since the inception of the CARS Program, NHTSA has received a substantial number of complaints from consumers located nation-wide, including time-sensitive complaints of dealer misconduct associated with the conduct of the Program. In order for these consumer complaints to be investigated and resolved in a timely manner (i.e., while the CARS Program remains operational and before the complaints become moot), NHTSA has sought the assistance of State Attorneys General. For this reason, NHTSA must begin sharing consumer complaint information, including personally identifiable information (PII) of consumers, with State Attorneys General and NAAG prior to completion of a 30-day public notice and comment period under this SORN. NHTSA nonetheless seeks and will accept public comment on this SORN for a 30 day period. Because our ability to consider comments received may be limited, we encourage the earliest possible submission of comments. If feasible, we may publish a further alteration to this SORN in light of any comments received.

ADDRESSES: Send comments to Dee Smith, NHTSA Privacy Officer, NHTSA Office of the CIO, NPO-420, U.S. Department of Transportation, 1200 New Jersey Avenue, SE., Washington, DC 20590 or dee.smith@dot.gov.

FOR FURTHER INFORMATION CONTACT: For privacy issues please contact: Dee Smith, NHTSA Privacy Officer, NHTSA Office of the CIO, NPO-420, U.S. Department of Transportation, 1200 New Jersey Avenue, SE., Washington, DC 20590 or dee.smith@dot.gov.

SUPPLEMENTARY INFORMATION:

I. CARS Program

On June 24, 2009, the President signed into law the Consumer Assistance to Recycle and Save Act of 2009 (the CARS Act) (Pub. L. 111-32). The Act establishes, within DOT's National Highway Traffic Safety Administration (NHTSA), a temporary program under which an owner of a motor vehicle meeting statutorily specified criteria may trade in the vehicle and receive a monetary credit from the dealer toward the purchase or lease of a new motor vehicle meeting statutorily specified criteria (the CARS Program or Program).

The Program covers qualifying transactions that occur between July 1, 2009 and November 1, 2009. If all of the conditions of eligibility are met and the dealer provides NHTSA with sufficient documentation relating to the transaction, NHTSA will make an electronic payment to the dealer equal to the amount of the credit extended by the dealer to the consumer, not exceeding the statutorily authorized amount. The dealer must agree to transfer the trade-in vehicle to a salvage auction or disposal facility that will crush or shred it so that it will never be returned to the road, although parts of the vehicle other than the engine block may be sold prior to disposal.

Under the Program, NHTSA must collect a variety of information from individuals and entities about qualifying transactions. Vehicle manufacturers must provide data about vehicles and authorized dealers. Dealers must provide information about their business operations and individual financial transactions. Salvage auctions and disposal facilities may be required to provide comparable data about their business operations and information confirming the sale or destruction of trade-in vehicles. This information is required to ensure compliance with the terms of the CARS Act—specifically, to verify that purchasing consumers, new and trade-in vehicles, dealers, salvage auctions and disposal facilities are eligible to participate in the Program; to identify, prevent and penalize fraud; and to confirm appropriate disposal of the trade-in vehicles. Participating car buyers also will be asked to complete a survey about the Program for use in reporting to Congress on the efficacy of the Program, as mandated by the CARS Act. Surveys will be voluntary and anonymous. Additionally, under the Act, NHTSA is required to coordinate with the U.S. Department of Justice (DOJ) to ensure that the National Motor Vehicle Title Information System (NMVTIS) (which is administrated by the American Association of Motor Vehicle Administrators (AAMVA)) is updated appropriately to reflect the disposal of vehicles traded in under the CARS Program.

II. CARS Database System

In order to support the CARS Program, NHTSA will utilize one or more secure databases (i.e., the CARS Database System) to collect, process and store information about eligible transactions and about car purchasers/lessees, dealers, salvage auctions and disposal facilities participating in the CARS Program. This information will include Personally Identifiable Information (PII), including financial transaction information of individual car purchasers/lessees, and may include PII about a limited number of salvage auctions and disposal facilities participating in the program, which in some States may be operated by individuals (sole proprietors).

III. The Privacy Act

The Privacy Act (5 U.S.C. 552a) governs the means by which the United States Government collects, maintains, and uses PII in a system of records. A “system of records” is a group of any records under the control of a Federal agency from which information about individuals is retrieved by name or other personal identifier.

The Privacy Act requires each agency to publish in the Federal Register a notice (SORN) identifying and describing each system of records the agency maintains, including the purposes for which the agency uses PII in the system, the routine uses for which the agency discloses such information outside the agency, and how individual record subjects can exercise their rights under the Privacy Act (e.g., to determine if the system contains information about them).

IV. Privacy Impact Assessment

NHTSA is publishing an updated Privacy Impact Assessment (PIA) to coincide with the expansion of the SORN.

In accordance with 5 U.S.C. 552a(r), a report on the alteration of this existing system of records has been sent to Congress and to the Office of Management and Budget.

SYSTEM NUMBER:

DOT/NHTSA 464.

SYSTEM NAME:

CARS Database System.

SECURITY CLASSIFICATION:

Sensitive, unclassified.

SYSTEM LOCATION:

Servers: The Servers hosting the CARS Database System are housed in a contractor-owned facility at Oracle On Demand in Austin, Texas.

Portals: This system is accessed via portals located at:

• Registered, participating new car dealers via the Internet at http://www.cars.gov.

• NHTSA Headquarters, located at 1200 New Jersey Avenue, and in various of NHTSA's regional offices and at other off-site locations used in connection with CARS Program.

• The off-site facilities of NHTSA and DOT Contractors.

Authorized users at NHTSA Headquarters access their records in the CARS Database System via the DOT Intranet. Authorized users at the NHTSA portal locations and at the contractor portal locations access their records in the CARS Database System via the Internet at http://www.cars.gov.

Some system software is maintained by Oracle On Demand in Austin, Texas. The CARS Database System interfaces with participating new car dealers, and with other DOT systems used to pay the dealers, through that system software, as well as other software maintained by the Federal Aviation Administration's Enterprise Services Center (ESC) at the Mike Monroney Aeronautical Center, Oklahoma City, OK.

Any electronic or hard-copy files containing CARS-related records will be maintained at the pertinent NHTSA, DOT or Contractor portal locations.

CATEGORIES OF INDIVIDUALS COVERED BY THE SYSTEM:

The system covers the following individuals:

• Individual buyers/lessees of new cars participating in the CARS program.

• Sole proprietors of salvage auctions and automobile disposal facilities participating in the CARS program.

CATEGORIES OF RECORDS IN THE SYSTEM:

• Records about individual car buyers/lessees participating in the CARS Program consist of transaction records containing the following PII data elements: name and address of the purchaser/lessee; the purchaser/lessee's State driver's license number or other State identification number; the State driver's license number or other State identification number of the co-purchaser/lessee (if any), as listed in the title; and the Vehicle Identification Number (VIN) of the trade-in vehicle and the VIN of the new vehicle. Depending on the State and content of the sales contract, PII also may be found on the following documents required to be scanned by dealers and entered into the system: Document of title of trade-in vehicle (or, in certain States, documentation of paperless title), proof of insurance for trade-in vehicle (cards or letter from insurer), trade-in registration, sales summary sheet, and salvage certificate.

• Records about any sole proprietors of salvage auctions and disposal facilities participating in the CARS Program consist of business operation records that may include the following PII elements: Name, home address, telephone number and email address, to the extent that such individuals operate their businesses out of their homes.

AUTHORITY FOR MAINTENANCE OF THE SYSTEM:

Public Law 111-32, 123 Stat. 1859.

PURPOSE(S):

The purpose for collecting records in the CARS Database System is to implement the CARS Program and ensure compliance with the terms of the CARS Act. Specifically:

• NHTSA personnel and contractors use the information that each car dealer enters into the CARS database to verify that purchasing/leasing consumers, new and trade-in vehicles, dealers, salvage auctions and disposal facilities are eligible to participate in the Program.

• NHTSA personnel and contractors use information entered into the system to determine if individual transactions satisfy CARS program requirements.

• NHTSA personnel and contractors use the system to send information about eligible transaction to a DOT financial management system to process vouchers and cause dealers to be paid by DOT/NHTSA for eligible transactions.

• Both to establish eligibility and for audit purposes, NHTSA compares dealer-entered information in the CARS Database System to purchaser/lessee and transactional information already within the system.

• NHTSA personnel and contractors and the DOT Inspector General may use information about individual transactions, purchasers/lessees, dealers, salvage auctions and disposal facilities participating in the CARS Program to prevent, identify and investigate program violations and fraud.

• NHTSA personnel and contractors will use survey data provided by purchasers/lessees to report to Congress on the efficacy of the Program.

ROUTINE USES OF RECORDS MAINTAINED IN THE SYSTEM, INCLUDING CATEGORIES OF USERS AND THE PURPOSES OF SUCH USES:

The CARS Database System shares PII about individual purchasers/leasees and their new and trade-in vehicles, and about any sole proprietors of salvage auctions and automobile disposal facilities, as follows:

• NHTSA personnel and contractors will use VINs from the system to update DOJ's NMVTIS database, as required by the CARS Act.

• NHTSA personnel and contractors, as well as the DOT Inspector General, may provide to the U.S. Department of Justice, State Attorneys General and the National Association of Attorneys General (NAAG) information about certain transactions, including PII about individual purchasers/lessees and any sole proprietors of salvage auctions and disposal facilities participating in the CARS Program, for purposes of investigating complaints and investigating and prosecuting criminal violations, including fraud.

• NHTSA personnel and contractors will provide to States lists of VINs of trade-in vehicles for which they issued car titles, for purposes of cancelling the car titles.

• Salvage auctions and disposal facilities receive the VIN and voucher transaction code for each trade-in car sent to them for sale or destruction. They include the VIN and code on a certificate that they return to DOT/NHTSA.

Other possible routine uses of the information, applicable to all DOT systems, are published in the Federal Register at 65 FR 19476 (April 11, 2000), under “Prefatory Statement of General Routine Uses” (available at http://www.dot.gov/privacy/privacyactnotices/).

DISCLOSURE TO CONSUMER REPORTING AGENCIES:

None.

POLICIES AND PRACTICES FOR STORING, RETRIEVING, ACCESSING, RETAINING, AND DISPOSING OF RECORDS IN THE SYSTEM—

STORAGE:

Records are stored in databases, on magnetic tape, on magnetic disk and in secure electronic and hard-copy files at DOT, NHTSA and contractor portal locations, as required. The databases are on servers; the data is typically stored on a Storage Area Network (SAN) and backed-up on tape stored in Oklahoma City, Oklahoma, Kansas City, Kansas and Austin, Texas. Magnetic tape and disk records are maintained at the central maintenance site in Oklahoma City, at the disaster recovery site in Kansas City, and at the remote hosting site in Austin. Storage of electronic or hard-copy file folders is at the geographic location of the pertinent portal location.

RETRIEVABILITY:

Records related to individual purchasing/leasing consumers participating in the CARS program are retrieved by State identification number (ID). This will be either a State driver's license and/or another form of State ID (i.e., driver's permit or standard ID). Complaint records relating to consumers participating in the CARS program also may be retrieved from electronic files (i.e., Excel spreadsheets) by word searches.

Records related to any sole proprietors of automobile disposal facilities are retrieved through the use of a unique number given to the proprietors through the Environmental Protection Agency (EPA). The EPA number will be listed on the http://www.cars.gov Web site for disposal facilities that are authorized to receive CARS vehicles.

SAFEGUARDS:

Access to records in the CARS Database system will be limited to NHTSA personnel and contractors through password security, encryption, firewalls, and secured operating system, except for bank account information and a limited amount of eligible transaction information which will be encrypted and sent securely to DOT's financial management system for purposes of effecting payments to participating dealers for eligible transactions.

Registered dealers entering data into the system will be able to access only records relating to transactions initiated by the same dealer—and not records relating to other transactions entered into the system.

Any electronic or hard copies of CARS-related records containing PII at DOT, NHTSA and contractor portal locations will be kept in secure electronic files or in hard-copy file folders locked in secure file cabinets during non-duty hours.

RETENTION AND DISPOSAL:

Under the CARS Final Rule, records created under the CARS program will be kept for 5 years. Records that are needed longer, such as to resolve claims and audit exceptions and prosecute fraud, will be retained until such matters are resolved.

The records may be moved at a future date to one or more different locations in response to the operational needs of DOT, NHTSA, the CARS Program or DOT/NHTSA contractors.

SYSTEM MANAGER AND ADDRESS:

The CARS Database System Manager (NPO-400), Office of the Chief Information Officer, NHTSA, 1200 New Jersey Avenue, SE., Washington, DC 20590.

NOTIFICATION PROCEDURE:

Individuals or business entities wishing to know if their records appear in this system should direct their requests to the System Manager identified above.

RECORD ACCESS PROCEDURE:

Individuals seeking access to information about them in this system should follow the same procedure as indicated under “Notification Procedure.”

CONTESTING RECORDS PROCEDURE:

Individuals seeking to contest the content of information about them in this system should follow the same procedure as indicated under “Notification Procedure.”

RECORD SOURCE CATEGORIES:

Transaction information pertaining to individual purchasers/lessees is obtained by car dealers, on behalf of NHTSA, directly from the individuals, from source documents the individuals provide (some of which are scanned into the database by the dealer), and/or directly from their new and trade-in cars. Dealers scan and/or enter the information into the CARS database and manually compare the information to the source documents or systems to verify its accuracy. NHTSA personnel and contractors then review the records to ensure accuracy prior to assessing the eligibility of individual transactions.

Business operations information about any sole proprietor salvage auctions and disposal facilities is obtained directly from the proprietors.

Consumer complaint information is obtained by DOT/NHTSA employees or contractors directly from consumers, including through NHTSA's CARS Hotline.

EXEMPTIONS CLAIMED FOR THIS SYSTEM:

None.

Dated: September 3, 2009.
Habib Azarsina,
Departmental Privacy Officer.

[FR Doc. E9-21802 Filed 9-9-09; 8:45 am]

BILLING CODE 4910-9X-P